ENVIRONMENTAL PROTECTION AGENCY

[EPA-HQ-OECA-2012-0669; FRL-9997-39-OMS]

Information Collection Request Submitted to OMB for Review and Approval; Comment Request; NESHAP for Oil and Natural Gas Production (Renewal)

AGENCY: Environmental Protection Agency (EPA).

ACTION: Notice.

SUMMARY: The Environmental Protection Agency (EPA) has submitted an information collection request (ICR), NESHAP for Oil and Natural Gas Production (EPA ICR Number 1788.12, OMB Control Number 2060-0417), to the Office of Management and Budget (OMB) for review and approval in accordance with the Paperwork Reduction Act. This is a proposed extension of the ICR, which is currently approved through September 30, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before August 30, 2019.

ADDRESSES: Submit your comments, referencing Docket ID Number EPA-HQ-OECA-2012-0669, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Oil and Natural Gas Production (40 CFR part 63, subpart HH) were proposed on February 06, 1998, and promulgated on June 17, 1999, only for major sources. On July 8, 2005, a supplemental proposal was proposed for area sources with the final rule, effective date on January 03, 2007. The rule was subsequently amended on August 16, 2012 to include emission sources for which standards were not previously developed. These regulations apply to emission points located at both new and existing oil and natural gas production facilities that are both major and area sources. A major source of hazardous air pollutants (HAP) is one that has the potential to emit 10 tons or more of any single HAP or 25 tons or more of total HAP per year; an area source is one with the potential to emit less than this. New facilities include those that commenced either construction or reconstruction after the date of proposal. This information is being collected to assure compliance with 40 CFR part 63, subpart HH.

In general, all NESHAP standards require initial notifications, performance tests, and periodic reports by the owners/operators of the affected facilities. They are also required to maintain records of the occurrence and duration of any malfunction in the operation of an affected facility, or any period during which the monitoring system is inoperative. These notifications, reports, and records are essential in determining compliance, and are required of all affected facilities subject to NESHAP.

Form Numbers: None.

Respondents/affected entities: New and existing area source and major source facilities that produce oil and natural gas (new facilities include those that commenced construction, modification or reconstruction after the date of proposal).

Respondent's obligation to respond: Mandatory (40 CFR part 63, subpart HH).

Estimated number of respondents: 4,669 (total).

Frequency of response: Initially, semiannually.

Total estimated burden: 54,400 hours (per year). Burden is defined at 5 CFR 1320.3(b).

Total estimated cost: $7,340,000 (per year), which includes $1,040,000 in annualized capital/startup and/or operation & maintenance costs.

Changes in the Estimates: This ICR reflects an increase in burden from the most recently-approved ICR. This increase is not due to any program changes. The adjustment increase in burden from the most recently approved ICR is due to an increase in the number of new and modified sources. The industry growth rate from the prior ICRs was adjusted to more accurately reflect current estimates of affected facilities from data reported to EPA's ECHO database. There is a projected industry growth; an additional 18 new major sources and 141 new area sources are expected to become subject to these rules each year. The adjustment to burden also corrects an error in the calculations for the number of respondents from the prior ICR, which double-counted existing respondents that became `new respondents' due to construction, reconstruction, and/or modification. The number of respondents required to perform O&M on CMS monitoring equipment has been increased to include area sources with monitoring requirements. Overall, there is an increase in the number of respondents, resulting in an estimated increase in the respondent labor hours, O&M costs, and number of responses. Finally, the burden to develop a startup, shutdown and malfunction (SS&M) plan has been removed, consistent with the vacatur of those provisions (Sierra Club v. EPA, 551 F.3d 1019) (D.C. Cir. 2008). Items which were previously reported under the SS&M provisions are now reported under the affirmative defense and malfunction reports, so that burden has not changed.

Courtney Kerwin,
Director, Regulatory Support Division.

[FR Doc. 2019-16226 Filed 7-30-19; 8:45 am]

BILLING CODE 6560-50-P